DEPARTMENT OF HEALTH AND HUMAN SERVICES

Centers for Disease Control and Prevention

Disease, Disability, and Injury Prevention and Control Special Emphasis Panel: Research To Improve Smoke Alarm Maintenance and Function, Program Announcement 03100; Correction

Summary: This notice was published in the Federal Register on July 11, 2003, Volume 68, Number 133, Page 41374. The meeting date, time, and location have been revised.

In accordance with section 10(a)(2) of the Federal Advisory Committee Act (Pub. L. 92-463), the Centers for Disease Control and Prevention (CDC) announces the following meeting:

Name: Disease, Disability, and Injury Prevention and Control Special Emphasis Panel (SEP): Research to Improve Smoke Alarm Maintenance and Function, Program Announcement 03100.

Action: The meeting times and dates have been revised as follows:

Times and Dates: 10 a.m.-10:15 a.m., July 28, 2003 (Open); 10:15 a.m.-4 p.m., July 28, 2003 (Closed).

Place: Teleconference Number 1-800-988-9352 passcode Unintentional for the Open portion of the meeting.

Status: Portions of the meeting will be closed to the public in accordance with provisions set forth in Section 552b(c) (4) and (6), Title 5 U.S.C., and the Determination of the Director, Management Analysis and Services Office, CDC, pursuant to Public Law 92-463.

Note: Due to administrative delays, this corrected Federal Register Notice is being published less than 15 days before the date of the meeting.

Matters To Be Discussed: The meeting will include the review, discussion, and evaluation of applications received in response to Program Announcement 03100.

Contact Person for More Information: Jean Langlois, Sc.D., Epidemiologist, Division of Injury and Disability Outcomes and Programs, National Center for Injury Prevention and Control, CDC, 4770 Buford Highway, NE., Atlanta, GA 30341; telephone 770.488.1478.

The Director, Management Analysis and Services Office, has been delegated the authority to sign Federal Register notices pertaining to announcements of meetings and other committee management activities, for both CDC and the Agency for Toxic Substances and Disease Registry.

Dated: July 22, 2003.
Alvin Hall,
Director, Management Analysis and Services Office, Centers for Disease Control and Prevention (CDC).

[FR Doc. 03-19054 Filed 7-23-03; 10:54 am]

BILLING CODE 4163-18-P